DEPARTMENT OF HOMELAND SECURITY

Federal Emergency Management Agency

[Docket ID FEMA-2018-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 20, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov. The flood hazard determinations are made final in the watersheds and/or communities listed in the table below.

(Catalog of Federal Domestic Assistance No. 97.022, “Flood Insurance.”)

Dated: February 23, 2018.
Roy E. Wright,
Deputy Associate Administrator for Insurance and Mitigation, Department of Homeland Security, Federal Emergency Management Agency.

Community | Community map repository address
Monmouth County, New Jersey (All Jurisdictions)
Docket No.: FEMA-B-1471
Borough of Highlands | Municipal Office, 42 Shore Drive, Highlands, NJ 07732.
Borough of Little Silver | Borough Hall, Clerk's Office, 480 Prospect Avenue, Little Silver, NJ 07739.
Borough of Matawan | Borough Hall, 201 Broad Street, Matawan, NJ 07747.
Borough of Monmouth Beach | Borough Hall, 18 Willow Avenue, Monmouth Beach, NJ 07750.
Ocean County, New Jersey (All Jurisdictions)
Docket No.: FEMA-B-1471
Borough of Point Pleasant Beach | Municipal Building, 416 New Jersey Avenue, Point Pleasant Beach, NJ 08742.
Putnam County, Ohio and Incorporated Areas
Docket Nos.: FEMA-B-1436 and FEMA-B-1704
Unincorporated Areas of Putnam County | Putnam County Courthouse, 245 East Main Street, Ottawa, OH 45875.
Village of Cloverdale | Village Office, 210 Mahoning Street, Cloverdale, OH 45827.
Village of Columbus Grove | Village Office, 113 East Sycamore Street, Columbus Grove, OH 45830.
Village of Dupont | Community Center and Village Hall, 101 Liberty Street, Dupont, OH 45837.
Village of Fort Jennings | Village Office, 440 4th Street, Fort Jennings, OH 45844.
Village of Gilboa | Municipal Building, 206 Main Street, Gilboa, OH 45875.
Village of Glandorf | Village Hall, 201 North Main Street, Glandorf, OH 45848.
Village of Kalida | Municipal Building, 110 South Broad Street, Kalida, OH 45853.
Village of Leipsic | Village Hall, 142 East Main Street, Leipsic, OH 45856.
Village of Ottawa | Village Hall, 136 North Oak Street, Ottawa, OH 45875.
Village of Ottoville | Municipal Center, 150 Park Drive, Ottoville, OH 45876.
Village of Pandora | Municipal Building, 102 South Jefferson Street, Pandora, OH 45877.
Clatsop County, Oregon and Incorporated Areas
Docket No.: FEMA-B-1703
City of Cannon Beach | City Hall, Community Development, 163 East Gower Street, Cannon Beach, OR 97110.
City of Gearhart | City Hall, 698 Pacific Way, Gearhart, OR 97138.
City of Seaside | Community Development, 1387 Avenue U, Seaside, OR 97138.
City of Warrenton | City Hall, 225 South Main, Warrenton, OR 97146.
Unincorporated Areas of Clatsop County | Community Development, 800 Exchange Street, Suite 100, Astoria, OR 97103.
San Juan County, Washington and Incorporated Areas
Docket No.: FEMA-B-1670
Town of Friday Harbor | San Juan Office of Community Development, 135 Rhone Street, Friday Harbor, WA 98250.
Unincorporated Areas of San Juan County | San Juan Office of Community Development, 135 Rhone Street, Friday Harbor, WA 98250.

[FR Doc. 2018-05190 Filed 3-13-18; 8:45 am]

BILLING CODE 9110-12-P